DEPARTMENT OF ENERGY

Federal Energy Regulatory Commission

[Project No. 5596-020]

Town of Bedford, Virginia; Notice of Waiver Period for Water Quality Certification Application

On July 31, 2023, the Town of Bedford, Virginia submitted to the Federal Energy Regulatory Commission (Commission) a copy of its request for a Clean Water Act section 401(a)(1) water quality certification filed with the Virginia Department of Environmental Quality (Virginia DEQ), in conjunction with the above captioned project. Pursuant to 40 CFR 121.6 and section 5.23(b) of the Commission's regulations,¹ we hereby notify the Virginia DEQ of the following:

¹ 18 CFR 5.23(b).

Date of Receipt of the Certification Request: July 28, 2023.

Reasonable Period of Time to Act on the Certification Request: One year (July 28, 2024).

If Virginia DEQ fails or refuses to act on the water quality certification request on or before the above date, then the agency certifying authority is deemed waived pursuant to section 401(a)(1) of the Clean Water Act, 33 U.S.C. 1341(a)(1).

Dated: August 15, 2023.
Kimberly D. Bose,
Secretary.

[FR Doc. 2023-17906 Filed 8-18-23; 8:45 am]

BILLING CODE 6717-01-P